DEPARTMENT OF JUSTICE

Antitrust Division

Notice Pursuant to the National Cooperative Research and Production Act of 1993—Northeastern Lumber Manufacturers Association

Notice is hereby given that, on September 16, 2004, pursuant to section 6(a) of the National Cooperative Research and Production Act of 1993, 15 U.S.C. 4301 et seq. (“the Act”), Northeastern Lumber Manufacturers Association (“NeLMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Northeastern Lumber Manufacturers Association, Cumberland Center, ME. The nature and scope of NeLMA's standards development activities are: development of size and quality standards for Eastern White Pine; maintain those rules in accordance with Voluntary Product Standard 20, developed under the auspices of the Department of Commerce; implementation of those rules as well as wood product grading rules of other agencies certified by the American Lumber Standard Committee through grading inspections of mills in the Northeast United States in order to assure conformation with those standards.

Dorothy B. Fountain,
Deputy Director of Operations, Antitrust Division.

[FR Doc. 05-1972 Filed 2-1-05; 8:45 am]

BILLING CODE 4410-11-M